DEPARTMENT OF COMMERCE

Foreign-Trade Zones Board

[Docket 25-2011]

Foreign-Trade Zone 205—Port Hueneme, California; Application for Reorganization Under Alternative Site Framework

An application has been submitted to the Foreign-Trade Zones (FTZ) Board (the Board) by the Board of Harbor Commissioners of the Oxnard Harbor District, grantee of FTZ 205, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81-81u), and the regulations of the Board (15 CFR part 400). It was formally filed on March 31, 2011.

FTZ 205 was approved by the Board on October 28, 1994 (Board Order 714, 59 FR 55420, 11/07/1994) and expanded on April 28, 1998 (Board Order 978, 63 FR 25819, 05/11/1998).

The current zone project includes the following sites: Site 1 (771 acres)—Port Hueneme commercial terminal complex (including the adjacent commercial area within the U.S. Naval Construction Battalion Center designated for FTZ use), 333 Ponoma Street; Port Hueneme; Site 2 (79 acres)—three parcels within the South Oxnard Industrial Park, 5650 Arcturus Avenue and 5601 Edison Road, Oxnard; Site 3 (22 acres)—908 East 3rd Street, Oxnard; and, Site 4 (10 acres)—5851 Arcturus Avenue, Oxnard.

The grantee's proposed service area under the ASF would be Ventura County, California, as described in the application. If approved, the grantee would be able to serve sites throughout the service area based on companies' needs for FTZ designation. The proposed service area is within and adjacent to the Port Hueneme Customs and Border Protection port of entry.

The applicant is requesting authority to reorganize its existing zone project to include all of the existing sites as “magnet” sites. No usage-driven sites are being requested at this time. Because the ASF only pertains to establishing or reorganizing a general-purpose zone, the application would have no impact on FTZ 205's authorized subzone.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is June 6, 2011. Rebuttal comments in response to material submitted during the foregoing period may be submitted during the subsequent 15-day period to June 21, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: March 31, 2011.
Andrew McGilvray,
Executive Secretary.

[FR Doc. 2011-8349 Filed 4-6-11; 8:45 am]

BILLING CODE P